DEPARTMENT OF THE INTERIOR

Geological Survey

[GX23WC000JU4200; OMB Control Number 1028-NEW]

Agency Information Collection Activities; Next Generation Volcano Hazards Assessment (NGVHA)

AGENCY: U.S. Geological Survey, Department of the Interior.

ACTION: Notice of information collection; request for comment.

SUMMARY: In accordance with the Paperwork Reduction Act of 1995 (PRA), the U.S. Geological Survey (USGS) is proposing a new information collection.

DATES: Interested persons are invited to submit comments on or before November 14, 2023.

ADDRESSES: Send your comments on this information collection request (ICR) by mail to Jessica Ball, P.O. Box 158, Moffett Field, CA 94035; or by email to jlball@usgs.gov. Please reference OMB Control Number 1028-NEW Next Generation Volcano Hazards Assessments in the subject line of your comments.

FOR FURTHER INFORMATION CONTACT: To request additional information about this ICR, contact Jessica Ball by email at jlball@usgs.gov, or by telephone at 650-439-2597. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval. We may not conduct or sponsor, nor are you required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: This project will collect usability data and user feedback for the purpose of updating and improving USGS Volcano Hazards Assessment (VHAs) and associated hazard communication products. This collection may take place via survey, direct interview, focus groups, listening sessions, workshops, or visual exercises such as eye-movement tracking or map annotation. Collection may be done either in-person or virtually (to reduce travel burdens). The questions asked will be consistent across all various methods of collection. This information will be used to assess partner needs with regard to the VHAs and derivative products created by the USGS Volcano Science Center and will ultimately be published in the form of white papers and journal articles as well as being used to create internal templates for the future production (and co-production) of hazard products.

Title of Collection: Next Generation Volcano Hazards Assessments.

OMB Control Number: 1028-NEW.

Form Number: None.

Type of Review: New.

Respondents/Affected Public: Federal, state, local, and Tribal government officials; emergency managers; first responders; community groups; individuals/households.

Total Estimated Number of Annual Respondents: 500 (across all methods).

Total Estimated Number of Annual Responses: 500.

Estimated Completion Time per Response: Varies from 15 minutes to 8 hours, depending on activity.

Total Estimated Number of Annual Burden Hours: 300 hours.

Respondent's Obligation: Voluntary.

Frequency of Collection: On occasion.

Total Estimated Annual Nonhour Burden Cost: None.

An agency may not conduct or sponsor, nor are you required to respond to, a collection of information unless it displays a currently valid OMB control number.

The authority for this action is the PRA (44 U.S.C. 3501 et seq.).

Christina Neal,
Director, USGS Volcano Science Center.

[FR Doc. 2023-19938 Filed 9-14-23; 8:45 am]

BILLING CODE 4388-11-P